DEPARTMENT OF ENERGY

Notice of Availability of the U.S. Department of Energy Interim Guidance on Packaging, Transportation, Receipt, Management, and Long-Term Storage of Elemental Mercury

AGENCY: Department of Energy.

ACTION: Notice of availability.

SUMMARY: This document provides general guidance with respect to standards and procedures necessary to support the packaging, transportation, receipt, management, and long-term storage of elemental mercury generated in the United States (U.S.) as required by the Mercury Export Ban Act of 2008 (the Act). Section 5 of the Act, Long-Term Storage, requires the Department of Energy (DOE) to prepare guidance that “establishes procedures and standards for the receipt, management, and long term storage of elemental mercury.”

ADDRESSES: Ms. Letitia O'Conor, Elemental Mercury Storage Guidance Document Manager, Office of Environmental Compliance (EM-41), U.S. Department of Energy, 1000 Independence Avenue, SW., Washington, DC 20585. The guidance document will be available at the DOE Web site at http://www.em.doe.gov/ and http://www.mercurystorageeis.com.

FOR FURTHER INFORMATION CONTACT: For further information about the guidance document, please contact Ms. Letitia O'Conor, Office of Environmental Compliance (EM-41), U.S. Department of Energy, 1000 Independence Avenue, SW., Washington, DC 20585. You can contact Ms. O'Conor at (202) 586-6570 or by e-mail at: letitia.o'conor@em.doe.gov.

SUPPLEMENTARY INFORMATION:

Background

Mercury exposure can cause a number of adverse effects on human health. In an effort to reduce global mercury use and releases, and in order to eventually achieve reduced contamination levels in the environment, the Act was passed by Congress and signed into law by the President on October 14, 2008 (Pub. L. No. 110-414, enacted October 14, 2008). The Act prohibits the sale, distribution, or transfer of elemental mercury by Federal agencies to any other Federal agency, any State or local government agency, or any private individual or entity that is under the control of a federal agency (with certain limited exceptions). It also prohibits the export of elemental mercury from the U.S. effective January 1, 2013 (subject to certain essential use exceptions). Section 5 of the Act, Long-Term Storage, directs DOE to designate a facility or facilities for the long-term management and storage of elemental mercury generated within the U.S. DOE's facility or facilities must be operational by January 1, 2013, and be ready to accept custody of elemental mercury delivered to such a facility. The Act also requires DOE to assess fees based upon the pro rata costs of long-term management and storage.

DOE is developing a capability for the safe and secure long-term management and storage of elemental mercury as required by the Act. Accordingly, DOE needs to identify an appropriate facility or facilities to host this activity. To this end, DOE is preparing an environmental impact statement (EIS) in accordance with the National Environmental Policy Act (NEPA) of 1969, regulations of the President's Council on Environmental Quality (40 CFR parts 1500-1508) and DOE's implementing procedures (10 CFR part 1021). This EIS will evaluate alternatives for such a facility or facilities in order to have the requisite capability operational by January 1, 2013, as stipulated in the Act. The U.S. Environmental Protection Agency (EPA) is a cooperating agency for this EIS. In July, DOE published a Notice of Intent to prepare an EIS for the Long-Term Management and Storage of Elemental Mercury in the Federal Register (74 FR 31723, July 2, 2009). DOE expects to issue a Draft EIS in December 2009.

As required by the Act, DOE has prepared the U.S. Department of Energy Interim Guidance on Packaging, Transportation, Receipt, Management, and Long Term Storage of Elemental Mercury (the Interim Guidance) in consultation with EPA and state agencies. The Interim Guidance provides a framework for the standards and procedures associated with the long-term management of elemental mercury and the operation of a DOE-designated elemental mercury storage facility with a focus on the federal Resource Conservation and Recovery Act (RCRA) compliance of such a facility. The Interim Guidance may be supplemented and, as appropriate, superseded by the host State's RCRA permitting of the future elemental mercury storage facility.

This Interim Guidance provides standards and procedures to: (1) Generators who will assure the purity of the mercury and the integrity of the containers; (2) transporters who will load, secure, and transfer the mercury to the storage facility; and (3) operators of the storage facility who will be responsible for unloading the mercury from the transport vehicle, verifying that waste acceptance requirements have been met, and operating the storage facility.

This Interim Guidance is intended to be a reference for a wide variety of individual users, industries, and regulatory organizations impacted by the Act. Specifically, potential users of this guidance document may include the following:

• Past generators, current owners, and custodians of elemental mercury;

• Recyclers of mercury bearing materials, wastes, and products (e.g., companies that recover dental amalgam);

• Major industrial generators of mercury, including the minerals mining industry (especially gold), chlor-alkali (chlorine and caustic soda production) industry, and electrical lighting (e.g., fluorescent lamp) industry;

• Private and government contractors managing stockpiled mercury;

• Shippers of elemental mercury;

• State and Federal regulatory agencies (e.g., EPA); and

• Future operators of an elemental mercury storage facility (or facilities) for DOE.

As required by the Act, this Interim Guidance outlines existing requirements and standards and applicable procedures for the receipt (including acceptance criteria and packaging/transfer/transport requirements), management, and long-term storage of elemental mercury by DOE.

Issued in Washington, DC, on November 9, 2009.
Frank Marcinowski,
Acting Deputy Assistant Secretary for Technical and Regulatory Support, Office of Environmental Management.

[FR Doc. E9-27395 Filed 11-13-09; 8:45 am]

BILLING CODE 6450-01-P